NATIONAL SCIENCE FOUNDATION

Advisory Committee for Biological Sciences; Notice of Meeting

In accordance with the Federal Advisory Committee Act (Pub. L. 92-463, as amended), the National Science Foundation announces the following meeting:

Name: Advisory Committee for Biological Sciences (1110).

Date and Time:

April 29-30, 2009—8:30 a.m.-5 p.m.

May 1, 2009—8:30 a.m.-12 p.m.

Place: National Science Foundation, 4201 Wilson Blvd., Arlington, VA 22230, Room 375.

Type of Meeting: Open.

Contact Person: Dr. Charles Liarakos, Senior Advisor, Biological Sciences, Room 605, National Science Foundation, 4201 Wilson Boulevard, Arlington, VA 22230, Tel No.: (703) 292-8400.

Minutes: May be obtained from the contact person listed above.

Purpose of Meeting: The Advisory Committee for BIO provides advice, recommendations, and oversight concerning major program emphases, directions, and goals for the research-related activities of the divisions that make up BIO.

Agenda:

• ARRA and FY'09 Budget.

• Leading Edge.

• COV Reports.

• NEON Report.

• Experiments in Innovation.

Dated: March 17, 2009.
Susanne Bolton,
Committee Management Officer.

[FR Doc. E9-6087 Filed 3-19-09; 8:45 am]

BILLING CODE 7555-01-P